DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from November 23 to November 27, 2009.

For further information, please contact Edson Beall via: United States Postal Service mail, at the National Register of Historic Places, 2280, National Park Service, 1849 C St. NW., Washington, DC 20240; in person (by appointment), 1201 Eye St. NW., 8th floor, Washington, DC 20005; by fax, 202-371-2229; by phone, 202-354-2255; or by e-mail, Edson_Beall@nps.gov.

Dated: February 12, 2010.
J. Paul Loether,
Chief, National Register of Historic Places/National Historic Landmarks Program.

KEY: State, County, Property Name, Address/Boundary, City, Vicinity, Reference Number, Action, Date, Multiple Name

ARIZONA

Maricopa County

Hubbard, L. Ron, House, 5501 N. 44th St., Phoenix, 09000953, LISTED, 11/23/09

KENTUCKY

Clark County

Upper Reaches of Boone Creek Rural Historic District, Upper Boone Creek vicinity, Winchester, 09000569, LISTED, 11/27/09 (Clark County MRA)

NEW YORK

Westchester County

Soundview Manor, 283 Soundview Ave., White Plains, 09000957, LISTED, 11/25/09

TENNESSEE

Knox County

Daylight Building, 501-517 Union Ave., Knoxville, 09000956, LISTED, 11/25/09 (Knoxville and Knox County MPS)

[FR Doc. 2010-3188 Filed 2-18-10; 8:45 am]

BILLING CODE 4312-51-P